DEPARTMENT OF ENERGY

Federal Energy Regulatory Commission

Combined Notice of Filings #1

Take notice that the Commission received the following electric corporate filings:

Docket Numbers: EC20-36-000.

Applicants: Tropico, LLC, Nicolis, LLC, Gulf Coast Solar Center I, LLC, Gulf Coast Solar Center II, LLC, Gulf Coast Solar Center III, LLC, Avalon Solar Partners, LLC.

Description: Supplement to February 11, 2020 Application for Authorization Under Section 203 of the Federal Power Act (Exhibit B documents in .XLS format) of Tropico, LLC, et al.

Filed Date: 2/20/20.

Accession Number: 20200220-5078.

Comments Due: 5 p.m. ET 3/12/20.

Take notice that the Commission received the following electric rate filings:

Docket Numbers: ER19-1864-003.

Applicants: Public Service Company of Colorado.

Description: Compliance filing: Errata_OATT-Att N-LGIP-Order 845 Compliance_ER19-1864-Test to be effective N/A.

Filed Date: 2/20/20.

Accession Number: 20200220-5019.

Comments Due: 5 p.m. ET 3/12/20.

Docket Numbers: ER20-270-003.

Applicants: Dynegy Oakland, LLC.

Description: Tariff Amendment: Amended Filing—Request for Commission Action to be effective 1/1/2020.

Filed Date: 2/19/20.

Accession Number: 20200219-5132.

Comments Due: 5 p.m. ET 3/11/20.

Docket Numbers: ER20-519-000; TS20-2-000.

Applicants: Wilderness Line Holdings, LLC.

Description: Supplement to December 4, 2019 Request for Waivers of the Standards of Conduct and Order Nos. 889 and 1000 Requirements of Wilderness Line Holdings, LLC.

Filed Date: 2/19/20.

Accession Number: 20200219-5151.

Comments Due: 5 p.m. ET 3/11/20.

Docket Numbers: ER20-1039-000.

Applicants: GridLiance Heartland LLC.

Description: Compliance filing: GLH Compliance Filing—2/19/2020 to be effective 12/31/9998.

Filed Date: 2/19/20.

Accession Number: 20200219-5130.

Comments Due: 5 p.m. ET 3/11/20.

Docket Numbers: ER20-1040-000.

Applicants: GridLiance West LLC.

Description: Compliance filing: GridLiance West 02/19/2020 Compliance Filing to be effective 2/19/2020.

Filed Date: 2/19/20.

Accession Number: 20200219-5131.

Comments Due: 5 p.m. ET 3/11/20.

Docket Numbers: ER20-1041-000.

Applicants: Wabash Valley Power Association, Inc.

Description: § 205(d) Rate Filing: Agreement for Early Termination of Wholesale Power Supply Contracts to be effective 4/20/2020.

Filed Date: 2/20/20.

Accession Number: 20200220-5001.

Comments Due: 5 p.m. ET 3/12/20.

Docket Numbers: ER20-1042-000.

Applicants: Nevada Gold Energy LLC.

Description: Compliance filing: Baseline Filing to be effective 1/1/2020.

Filed Date: 2/20/20.

Accession Number: 20200220-5026.

Comments Due: 5 p.m. ET 3/12/20.

Docket Numbers: ER20-1043-000.

Applicants: Union Electric Company, TG High Prairie, LLC.

Description: Baseline eTariff Filing: Test Power and Station Service Agreement to be effective 4/21/2020.

Filed Date: 2/20/20.

Accession Number: 20200220-5064.

Comments Due: 5 p.m. ET 3/12/20.

Docket Numbers: ER20-1044-000.

Applicants: PJM Interconnection, L.L.C.

Description: § 205(d) Rate Filing: First Revised ISA No. 5227; Queue No. AE1-154 to be effective 1/22/2020.

Filed Date: 2/20/20.

Accession Number: 20200220-5066.

Comments Due: 5 p.m. ET 3/12/20.

Docket Numbers: ER20-1045-000.

Applicants: Tri-State Generation and Transmission Association, Inc.

Description: § 205(d) Rate Filing: Unexecuted Service Agreement No. 608 between Tri-State and Leeward to be effective 2/20/2020.

Filed Date: 2/20/20.

Accession Number: 20200220-5096.

Comments Due: 5 p.m. ET 3/12/20.

Take notice that the Commission received the following electric securities filings:

Docket Numbers: ES20-16-000.

Applicants: Horizon West Transmission, LLC.

Description: Application for Authorization of Issuance of Long-Term Debt Securities Under Section 204 of the Federal Power Act, et al. of Horizon West Transmission, LLC.

Filed Date: 2/19/20.

Accession Number: 20200219-5165.

Comments Due: 5 p.m. ET 3/11/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 20, 2020.
Nathaniel J. Davis, Sr.,
Deputy Secretary.

[FR Doc. 2020-03930 Filed 2-26-20; 8:45 am]

BILLING CODE 6717-01-P